Presidential Determination No. 2001-11 of January 19, 2001

Waiver of Sanctions for the Transfer of Select U.S. Munitions List U.S.-Origin Helicopter Spare Parts From the United Kingdom to India

Memorandum for the Secretary of State

Pursuant to the authority vested in me as President of the United States, and consistent with title IX of the Department of Defense Appropriations Act, 2000 (Public Law 106-79), I hereby waive the application of the restrictions contained in sections 101 and 102 of the Arms Export Control Act, as they have been applied under the International Traffic in Arms Regulations, and determine and certify to the Congress that the application of such restrictions would not be in the national security interests of the United States:

With respect to India, insofar as such restriction would otherwise apply to the issuance of a defense export authorization allowing the transfer of only certain specified U.S.-origin helicopter parts from the United Kingdom to India.

You are hereby authorized and directed to report this determination to the Congress and to arrange for its publication in the Federal Register.

wj

THE WHITE HOUSE,

Washington, January 19, 2001.

[FR Doc. 01-2896

Filed 1-31-01; 8:45 am]

Billing code 4710-10-M